DEPARTMENT OF ENERGY

Federal Energy Regulatory Commission

Combined Notice of Filings #1

Take notice that the Commission received the following electric corporate filings:

Docket Numbers: EC21-4-000.

Applicants: RE Slate 1 LLC.

Description: Application for Authorization Under Section 203 of the Federal Power Act, et al. of RE Slate 1 LLC.

Filed Date: 10/2/20.

Accession Number: 20201002-5225.

Comments Due: 5 p.m. ET 10/23/20.

Take notice that the Commission received the following electric rate filings:

Docket Numbers: ER19-1900-004.

Applicants: Golden Spread Electric Cooperative, Inc.

Description: Compliance filing: Correction to Order No. 845 Second Compliance Filing to be effective 5/20/2019.

Filed Date: 10/2/20.

Accession Number: 20201002-5155.

Comments Due: 5 p.m. ET 10/23/20.

Docket Numbers: ER19-1902-004.

Applicants: Deseret Generation & Transmission Co-operative, Inc.

Description: Compliance filing: Correction to ER19-1902 Second Compliance Filing to be effective 5/20/2019.

Filed Date: 10/2/20.

Accession Number: 20201002-5189.

Comments Due: 5 p.m. ET 10/23/20.

Docket Numbers: ER20-1837-003.

Applicants: Duke Energy Progress, LLC, Duke Energy Carolinas, LLC, Duke Energy Florida, LLC.

Description: Compliance filing: Errata to Second Amendent to Order N. 864 Compliance Filing to be effective 1/27/2020.

Filed Date: 10/2/20.

Accession Number: 20201002-5154.

Comments Due: 5 p.m. ET 10/23/20.

Docket Numbers: ER20-3009-001.

Applicants: GridLiance Heartland LLC.

Description: Compliance filing: GLH Order No. 864 Amended Compliance Filing to be effective 12/1/2020.

Filed Date: 10/2/20.

Accession Number: 20201002-5116.

Comments Due: 5 p.m. ET 10/23/20.

Docket Numbers: ER20-3012-001.

Applicants: GridLiance Heartland LLC.

Description: Compliance filing: ER20-3012 Order 845 Amended Compliance Filing to be effective 12/1/2020.

Filed Date: 10/2/20.

Accession Number: 20201002-5118.

Comments Due: 5 p.m. ET 10/23/20.

Docket Numbers: ER21-25-000.

Applicants: Midcontinent Independent System Operator, Inc.

Description: Annual Calculation of the Cost of New Entry value (“CONE”) for each Local Resource Zone (“LRZ”) in the MISO Region of Midcontinent Independent System Operator, Inc.

Filed Date: 10/2/20.

Accession Number: 20201002-5202.

Comments Due: 5 p.m. ET 10/23/20.

Docket Numbers: ER21-26-000.

Applicants: Tri-State Generation and Transmission Association, Inc.

Description: Compliance filing: Notice of Cancellation of Rate Schedule FERC No. 281 to be effective 5/7/2020.

Filed Date: 10/5/20.

Accession Number: 20201005-5056.

Comments Due: 5 p.m. ET 10/26/20.

Docket Numbers: ER21-27-000.

Applicants: Midcontinent Independent System Operator, Inc.

Description: § 205(d) Rate Filing: 2020-10-05_De Minimis Thresholds for Corrective Resettlements Filing to be effective 12/8/2020.

Filed Date: 10/5/20.

Accession Number: 20201005-5057.

Comments Due: 5 p.m. ET 10/26/20.

Docket Numbers: ER21-28-000.

Applicants: New York Independent System Operator, Inc., New York State Electric & Gas Corporation.

Description: § 205(d) Rate Filing: Joint filing re: SGIA among NYISO, NYSEG and SunEast Dog Corners Solar LLC to be effective 9/21/2020.

Filed Date: 10/5/20.

Accession Number: 20201005-5089.

Comments Due: 5 p.m. ET 10/26/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2020.
Nathaniel J. Davis, Sr.,
Deputy Secretary.

[FR Doc. 2020-22444 Filed 10-8-20; 8:45 am]

BILLING CODE 6717-01-P